DEPARTMENT OF ENERGY

Federal Energy Regulatory Commission

[Docket No. EC01-27-000]

Rochester Gas and Electric Corporation; Niagara Mohawk Power Corporation; Notice of Filing

November 24, 2000.

Take notice that on November 17, 2000, Rochester Gas and Electric Corporation (RG&E) and Niagara Mohawk Power Corporation (Niagara Mohawk) tendered for filing with the Federal Energy Regulatory Commission (Commission) an Application pursuant to Section 203 of the Federal Power Act, 16 U.S.C. § 824b, for authority to transfer ownership of a substation from RG&E to Niagara Mohawk. RG&E and Niagara Mohawk request that the Commission expeditiously review this Application and issue an order granting authority for the proposed disposition by December 29, 2000.

A copy of this Application was served on the New York Public Service Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before December 8, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-30489 Filed 11-29-00; 8:45 am]

BILLING CODE 6717-01-M